DEPARTMENT OF AGRICULTURE

Foreign Agricultural Service

Consultative Group To Eliminate the Use of Child Labor and Forced Labor in Imported Agricultural Products

AGENCY: Foreign Agricultural Service, USDA.

ACTION: Notice; extension for receiving nominations.

SUMMARY: Notice is hereby given that the U.S. Department of Agriculture (USDA) is extending the period for receiving applications from individuals to serve as a non-government member of the Consultative Group to Eliminate the Use of Child Labor and Forced Labor in Imported Agricultural Products (Consultative Group). On June 18, 2008, the Food, Conservation, and Energy Act of 2008 (The Act), also known as the 2008 Farm Bill, was enacted. The Act provides for the creation of the Consultative Group.

DATES: Applications must be received prior to 5 p.m. on May 13, 2009.

ADDRESSES: You may submit applications by any of the following methods:

—USDA: Applications should be sent by mail to the Office of Negotiations and Agreements, Foreign Agricultural Service, U.S. Department of Agriculture, Stop 1040, 1400 Independence Ave., SW., Washington, DC 20250; by hand (including DHL, FedEx, UPS, etc.) to the Office of Negotiations and Agreements, Foreign Agricultural Service, U.S. Department of Agriculture, Room 4133-S, 1400 Independence Ave., SW, Washington, DC 20250; by e-mail to: kathryn.ting@fas.usda.gov; or by fax to (202) 720-0340.

—U.S. Department of Labor (DOL): Applications should be sent by mail or by hand (including DHL, FedEx, UPS, etc.) to the Bureau of International Labor Affairs, U.S. Department of Labor, 200 Constitution Ave., NW., Room S-5317, Washington, DC 20210; by e-mail to: castro.charita@dol.gov; or by fax to (202) 693-4830.

FOR FURTHER INFORMATION CONTACT: The Office of Negotiations and Agreements by fax to (202) 720-0340; by e-mail addressed to kathryn.ting@fas.usda.gov; or by mail addressed to the Office of Negotiations and Agreements, Foreign Agricultural Service, U.S. Department of Agriculture, Stop 1040, 1400 Independence Ave., SW., Washington, DC 20250.

SUPPLEMENTARY INFORMATION: The Consultative Group to Eliminate the Use of Child Labor and Forced Labor in Imported Agricultural Products was established by section 3205 of the Food, Conservation, and Energy Act of 2008 (Pub. L. 110-246). Interested parties are invited to submit applications for membership in the Consultative Group to USDA or DOL as specified in the Submission of Applications paragraph below.

Duties

The Consultative Group will develop recommendations relating to a standard set of practices for independent, third-party monitoring and verification for the production, processing, and distribution of agricultural products or commodities to reduce the likelihood that agricultural products or commodities imported into the United States are produced with the use of forced labor or child labor. Recommendations developed by the Consultative Group will be submitted to the Secretary of Agriculture by June 18, 2010. Thereafter, the Consultative Group will continue to advise the Secretary as necessary.

Membership

As required under section 3205(d) of the Act, the Consultative Group will be composed of not more than 13 members, including two officials from USDA, one of whom will serve as the chairperson; the Deputy Under Secretary for International Affairs, DOL; and one representative from the Department of State. The Consultative Group will also include:

• Three members to represent private agriculture-related enterprises, which may include retailers, food processors, importers, and producers, of whom at least one member shall be an importer, food processor, or retailer who utilizes independent, third-party supply chain monitoring for forced labor or child labor;

• Two members to represent institutions of higher education and research institutions, as determined appropriate by the Bureau of International Labor Affairs, DOL;

• One member to represent an organization that provides independent, third-party certification services for labor standards for producers or importers of agricultural commodities or products; and

• Three members to represent organizations described in section 501(c)(3) of the Internal Revenue Code of 1986 that have expertise on the issues of international child labor and do not possess a conflict of interest associated with establishment of the guidelines issued under section 3205(c)(2) of the Act, as determined by the Bureau of International Labor Affairs, DOL, including representatives from consumer organizations and trade unions, if appropriate.

Terms of Service

• Members shall serve through December 31, 2012;

• The Consultative Group shall meet no fewer than four times per year in person in Washington, DC or through alternative media;

• The Consultative Group shall make its recommendations to the Secretary of Agriculture no later than June 18, 2010. Thereafter, the Consultative Group submit annual reports to the Secretary through December 31, 2012;

• Members of the Consultative Group shall serve without compensation;

• Travel and lodging expenses will be borne by each member; and

• Meetings of the Consultative Group will be closed to the public.

Submission of Applications

• Membership in the Consultative Group is open to all individuals without regard to race, color, religion, sex, national origin, age, mental or physical handicap, marital status, or sexual orientation.

• All applications must include the following information:

(1) Brief summary explaining the candidate's qualifications to serve as a member of the Consultative Group;

(2) Statement specifying the non-government membership category for which the candidate is best qualified (private agriculture-related enterprises, higher education and research institutions, etc.);

(3) Resume;

(4) Contact information of candidate; and

(5) Completed copy of form AD-755, “Advisory Committee Membership Background Information.”

Applications from candidates of private agriculture-related enterprises and independent, third-party certification services must be sent to the USDA contact listed above. Applications from candidates of higher education, research institutions, and 501(c)(3) organizations must be sent to the DOL contact listed above.

Member Selection

The requested applications will assist U.S. Government agencies in making appointments to the Consultative Group. Other qualified individuals may be considered in addition to those who submit applications in response to this notice.

Signed at Washington, DC, on April 17, 2009.
Patricia R Sheikh,
Acting Administrator, Foreign Agricultural Service.

[FR Doc. E9-9727 Filed 4-28-09; 8:45 am]

BILLING CODE 3410-10-P